DEPARTMENT OF TRANSPORTATION

Federal Aviation Administration

14 CFR Part 71

[Docket No. FAA-2021-0859; Airspace Docket No. 19-AAL-57]

RIN 2120-AA66

Establishment of United States Area Navigation (RNAV) Route T-390; St. Paul Island, AK

AGENCY: Federal Aviation Administration (FAA), DOT.

ACTION: Final rule; correction.

SUMMARY: The FAA is correcting a final rule published in the Federal Register on July 11, 2022, that established RNAV route T-390 in the vicinity of St. Paul Island, AK. In the description of T-390, the final rule identified the ZEBUV, AK route point as a waypoint (WP), in error. This action makes an editorial corrections to all references of the ZEBUV, AK, WP to change them to the ZEBUV, AK, Fix to match the FAA's aeronautical database information.

DATES: Effective date 0901 UTC, September 8, 2022. The Director of the Federal Register approves this incorporation by reference action under 1 CFR part 51, subject to the annual revision of FAA Order 7400.11 and publication of conforming amendments.

ADDRESSES: FAA Order 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

History

The FAA published a final rule in the Federal Register (87 FR 41052; July 11, 2022) for Docket No. FAA-2021-0859, establishing RNAV route T-390. Subsequent to publication, the FAA determined that the ZEBUV, AK, route point was inadvertently identified as a WP, in error. This rule corrects that error by changing references from the RAYMD, AK, WP to the RAYMD, AK, Fix. This is an editorial change only to match the FAA's aeronautical database information and does not alter the alignment of T-390.

United States RNAV routes are published in paragraph 6011 are published in paragraph 6011 of FAA Order JO 7400.11F, dated August 10, 2021, and effective September 15, 2021, which is incorporated by reference in 14 CFR 71.1. The RNAV route listed in this document will be published subsequently in FAA Order JO 7400.11.

Correction to Final Rule

Accordingly, pursuant to the authority delegated to me, reference to the ZEBUV, AK, WP, published in the Federal Register of July 11, 2022 (87 FR 41052), FR Doc. 2022-14494, is corrected as follows:

1. On page 41054, in the first column, line 3, correct “ZEBUV, AK WP” to read “ZEBUV, AK FIX.”

Issued in Washington, DC, on August 3, 2022.
Scott M. Rosenbloom,
Manager, Airspace Rules and Regulations.

[FR Doc. 2022-16947 Filed 8-11-22; 8:45 am]

BILLING CODE 4910-13-P